FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

Manufacturing Equipment & Tools Export, Inc. dba Metex, 4709 NW. 72 Ave., Miami, FL 33166, Officers: Nelson J. Fernandez, Manager (Qualifying Individual), Enrique Schmid, Director/President.

Ocean Cargo Logistics Group, LLC, 14381 SW. 163 Street, Miami, FL 33177, Officer: Juan C. Gonzalez, Member/Manager (Qualifying Individual).

Gruden USA, Inc., 51 Newark Street, Ste. 302, Hoboken, NJ 07030, Officer: Carmella De Primo, Vice President (Qualifying Individual).

American Trailer Express, Inc., Bldg. #5 West Side, 2000 NW. 97th Ave., Doral, FL 33172-23163, Officer: Roberto Faith, President (Qualifying Individual).

O.T.S. Logistics, Inc., 18726 South Western Ave., Ste. 212, Gardena, CA 90248, Officers: Nol E. Burger, President (Qualifying Individual), Inez M. Imura, Secretary.

Tomcar Investment USA, 8369 North Coral Circle, N. Lauderdale, FL 33068, Officer: Orlando Cabrera, President (Qualifying Individual).

Alfa International Logistics, Inc., 139 Mitchell Ave., Ste. 201, So. San Francisco, CA 94080, Officers: Shu-Jen A. Lee, Vice President (Qualifying Individual), Sophie Chen, CEO.

Transitex International LTD Company, BP 348, Abidjan 27, Abidjan Ivory Coast, Côte d'Ivoire, Officer: Kan R. Nguessan, Owner (Qualifying Individual).

Non-Vessel Operating Common Carrier and Ocean Freight Forwarder Transportation Intermediary Applicants:

Consolidators International, Inc. dba Corrigans Express Freight, 8900 Bellanca Ave., Los Angeles, CA 90045, Officer: Ronen Donde, Vice President (Qualifying Individual).

Fluent Logistics LLC, 105 Golfview Lane, Summerville, SC 29485, Officers: Hugh R. Parrish, President (Qualifying Individual), John Drabble, Vice President Int'l.

FS Goodship, LLC, 699 Lively Blvd., Elk Grove Village, IL 60007, Officer: Robert Villiard, President (Qualifying Individual).

Overseas Cargo, Inc., 9614 Pondwood Rd., Boca Raton, FL 33428, Officer: Suramya T. Atapattu, President. (Qualifying Individual).

Dimar International Cargo Corp., 8075 NW. 68th Street, Miami, FL 33166, Officers: Rafael A. Marmolejos, President (Qualifying Individual), Norma Marmolejos, Vice President.

Mainfreight, Inc., 1400 Glenn Curtiss Street, Carson, CA 90746, Officer: Christopher A. Coppersmith, President (Qualifying Individual).

Woojin Global Logistics USA, Inc., 2396 E. Pacifica Pl., Ste. 220, Rancho Dominguez, CA 90220, Officer: Eric S. Lee, CFO (Qualifying Individual).

Konig International Logistics, LLC, 1731 NW. 82nd Ave., Doral, FL 33126, Officers: Jamilett Moran, Vice President (Qualifying Individual), Marco A. Guerra, Jr., President.

SM Logistics, Inc., 14241 E. Firestone Blvd., #400, La Mirada, CA 90638, Officers: Ronald Iswono, Vice President-Operations (Qualifying Individual), Asdin Ng, President.

Synergetic Specialty Logistics Inc., dba Custom Crating and Logistics Inc., dba Mabuhay! A Balikbayan Box Service, 375 Country Club Drive, Bensenville, IL 60106, Officers: Eric G. Zerrudo, President (Qualifying Individual), James T. Harper, Treasurer.

All Transport, Inc., 8369 NW. 66th Street, Miami, FL 33166, Officer: Marie Lynet Lopez, President (Qualifying Individual).

P.O. Box International/U.S.A., Inc., dba P.O. Box International, 2801 NW. 74th Ave., Ste. 112, Miami, FL 33332, Officer: Oscar F. Gonzalez, President (Qualifying Individual).

Intersea Transport, Inc., 300 Beeline Drive, #102, Bensenville, IL 60106, Officer: Jo Soon Chung, President (Qualifying Individual).

CNS Logistics, Inc., 18408 S. Laurel Park Rd., Ste. A, Rancho Dominguez, CA 90220, Officers: Kwang Soo Kim, Secretary (Qualifying Individual), Soo Yeon Yoon, C.E.O.

AAA Intercontinental Cargo Inc., 16114 Windom Dr., Webster, TX 77598, Officer: Meheddin O. Meirkhan, President (Qualifying Individual).

United Logistics Corp., 3650 Mansell Rd., #400, Alpharetta, GA 30022, Officer: Jason S. Ewing, Secretary (Qualifying Individual).

Ocean Freight Forwarder—Ocean Transportation Intermediary Applicants:

ICAT Logistics, Inc., 6805 Douglas Legum Dr., Elkridge, MO 21075, Officer: Christian N. Cser, Ocean Freight Dir. (Qualifying Individual).

Express Shipping Logistics, Inc., 1135 Londonberry Lane, Glen Ellyn, IL 60137, Officers: Khizar Jafri, Secretary (Qualifying Individual), Abedaslam H. Ayesh, President.

River City Global Logistics LLC, dba Transgroup International, 3370 Turfway Rd., Ste. 180, Erlanger, KY 41018, Officers: Tiffany M. Scudder, Secretary (Qualifying Individual), Sean Brandenburg, Member/Manager.

Dated: July 17, 2009.
Tanga S. FitzGibbon,
Assistant Secretary.

[FR Doc. E9-17415 Filed 7-21-09; 8:45 am]

BILLING CODE 6730-01-P